DEPARTMENT OF COMMERCE

National Oceanic and Atmospheric Administration

RIN 0648-XF232

Pacific Fishery Management Council; Public Meeting

AGENCY: National Marine Fisheries Service (NMFS), National Oceanic and Atmospheric Administration (NOAA), Commerce.

ACTION: Notice; public meeting.

SUMMARY: The Pacific Fishery Management Council's (Pacific Council) Highly Migratory Species Management Team (HMSMT) will hold a meeting, which is open to the public.

DATES: The HMSMT meeting will be on Tuesday, April 18, 2017 to Thursday, April 20, 2017. This meeting will start at 8:30 a.m. and continue until business is concluded on each day.

ADDRESSES: The meeting will be held at Martin-Johnson House (T-29), Scripps Institute of Oceanography, 8840 Biological Grade, La Jolla, CA 92037; phone: (858) 534-5604.

Council address: Pacific Council, 7700 NE Ambassador Place, Suite 101, Portland, OR 97220-1384.

FOR FURTHER INFORMATION CONTACT: Kit Dahl, Pacific Council; telephone: (503) 820-2422.

SUPPLEMENTARY INFORMATION: Two main topics will be discussed at the HMSMT meeting. The first is the development of a range of alternatives for authorizing a fishery using deep-set buoy gear. The Council directed the HMSMT to propose a range of alternatives for the Council to consider adopting for public review at its June 7-14 meeting in Spokane, Washington. The second topic is the review of biological reference points for HMS stocks managed under the Council's Fishery Management Plan for U.S. West Coast Fisheries for Highly Migratory Species. These biological reference points, identified in the Magnuson-Stevens Fishery Conservation and Management Act, include maximum sustainable yield, optimum yield, and status determination criteria. The HMSMT will initially focus on identifying these reference points for Pacific bluefin tuna. Other topics the HMSMT may discuss include updates to the HMS Stock Assessment and Fishery Evaluation document and HMS-related matters scheduled on future Council agendas.

Although nonemergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2280 at least 10 days prior to the meeting date.

Dated: February 22, 2017.
Tracey L. Thompson,
Acting Deputy Director, Office of Sustainable Fisheries, National Marine Fisheries Service.

[FR Doc. 2017-03787 Filed 2-24-17; 8:45 am]

BILLING CODE 3510-22-P